FEDERAL COMMUNICATIONS COMMISSION

47 CFR Parts 25, 73, and 76

[MB Docket No. 24-211; FCC 24-74; FR ID 235498]

Disclosure and Transparency of Artificial Intelligence-Generated Content in Political Advertisements

AGENCY: Federal Communications Commission.

ACTION: Proposed rule.

SUMMARY: In this document, the Federal Communications Commission (Commission or FCC) initiates a proceeding to provide greater transparency regarding the use of artificial intelligence-generated content in political advertising. Specifically, the Commission proposes to require radio and television broadcast stations; cable operators, Direct Broadcast Satellite (DBS) providers, and Satellite Digital Audio Radio Service (SDARS) licensees engaged in origination programming; and permit holders transmitting programming pursuant to section 325(c) of the Communications Act of 1934 (Act), to provide an on-air announcement for all political ads (including both candidate ads and issue ads) that contain artificial intelligence (AI)-generated content disclosing the use of such content in the ad. The Commission also propose to require these licensees and regulatees to include a notice in their online political files for all political ads that include AI-generated content disclosing that the ad contains such content.

DATES: Comments for this proceeding are due on or before September 4, 2024; reply comments are due on or before September 19, 2024.

ADDRESSES: You may submit comments, identified by MB Docket No. 24-211, by any of the following methods:

Federal Communications Commission's website: https://www.fcc.gov/cgb/ecfs/. Follow the instructions for submitting comments.

Mail: Filings can be sent by hand or messenger delivery, by commercial overnight courier, or by first-class or overnight U.S. Postal Service mail (although the Commission continues to experience delays in receiving U.S. Postal Service mail). All filings must be addressed to the Commission's Secretary, Office of the Secretary, Federal Communications Commission.

People with Disabilities: Contact the FCC to request reasonable accommodations (accessible format documents, sign language interpreters, CART, etc.) by email: FCC504@fcc.gov or phone: (202) 418-0530 or TTY: (202) 418-0432.

For detailed instructions for submitting comments and additional information on the rulemaking process, see the SUPPLEMENTARY INFORMATION section of this document.

FOR FURTHER INFORMATION CONTACT: For additional information, contact Kathy Berthot, Kathy.Berthot@fcc.gov, of the Media Bureau, Policy Division, (202) 418-7454.

SUPPLEMENTARY INFORMATION: This is a summary of the Commission's Notice of Proposed Rulemaking (NPRM), FCC 24-74, adopted on July 10, 2024, and released on July 25, 2024. The full text is available for public inspection and copying during regular business hours in the FCC Reference Center, Federal Communications Commission, 445 12th Street SW, CY-A257, Washington, DC 20554. This document will also be available via ECFS (http://www.fcc.gov/cgb/ecfs/). Documents will be available electronically in ASCII, Word 97, and/or Adobe Acrobat. Alternative formats are available for people with disabilities (Braille, large print, electronic files, audio format), by sending an email to fcc504@fcc.gov or calling the Commission's Consumer and Governmental Affairs Bureau at (202) 418-0530 (voice), (202) 418-0432 (TTY).

Pursuant to §§ 1.415 and 1.419 of the Commission's rules, 47 CFR 1.415, 1.419, interested parties may file comments and reply comments on or before the dates indicated on the first page of this document. Comments may be filed using the Commission's Electronic Comment Filing System (ECFS).

• Electronic Filers: Comments may be filed electronically using the internet by accessing the ECFS: https://www.fcc.gov/ecfs/.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8 a.m. and 4 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701.

• Filings sent by U.S. Postal Service First-Class Mail, Priority Mail, and Priority Mail Express must be sent to 45 L Street NE, Washington, DC 20554.

People with Disabilities: To request materials in accessible formats for people with disabilities (braille, large print, electronic files, audio format), send an email to fcc504@fcc.gov or call the Consumer & Governmental Affairs Bureau at 202-418-0530 (voice), 202-418-0432 (TTY).

Paperwork Reduction Act of 1995 Analysis: This document proposes new or modified information collection requirements. The Commission, as part of its continuing effort to reduce paperwork burdens and pursuant to the Paperwork Reduction Act of 1995, Public Law 104-13, invites the general public and the Office of Management and Budget (OMB) to comment on these information collection requirements. In addition, pursuant to the Small Business Paperwork Relief Act of 2002, Public Law 107-198, see 44 U.S.C. 3506(c)(4), the Commission seeks specific comment on how it might further reduce the information collection burden for small business concerns with fewer than 25 employees.

Providing Accountability Through Transparency Act: Consistent with the Providing Accountability Through Transparency Act, Public Law 118-9, a summary of this document will be available on: https://www.fcc.gov/proposed-rulemakings.

Synopsis

1. Recognizing the potentially beneficial use of AI in political advertisements while keeping in mind broadcasters and other regulated entities' statutory obligation to serve the public interest by taking responsibility for material—including false, misleading or deceptive material—disseminated to the public through their facilities, the Commission initiates the NPRM to provide greater transparency regarding the use of AI-generated content in political advertising. Specifically, the Commission proposes to require radio and television broadcast stations; cable operators, DBS providers, and SDARS licensees engaged in origination programming; and permit holders transmitting programming pursuant to section 325(c) of the Act, to provide an on-air announcement for all political ads that include AI-generated content disclosing the use of such content in the ad. The Commission also proposes to require these licensees and regulatees to include a notice in their online political files for all political ads that include AI-generated content disclosing that the ad contains such content. To be clear, the Commission is not proposing to ban or otherwise restrict the use of AI-generated content in political ads. Rather, it is simply seeking to ensure that listeners and viewers are informed when political ads include such content so that the public can evaluate such ads for themselves.

The FCC's Role

2. The presentation of political programming is considered an essential element of broadcasters' obligation to serve the public interest because of the critical role such programming plays in fostering an informed electorate, which in turn is vital to the effective operation of the democratic process. In keeping with this critical role, the political programming and recordkeeping requirements established by Congress and implemented by the Commission ensure that candidates for elective office have access to broadcast facilities and certain other media platforms and promote transparency about the entities that sponsor political ads. Further, the Commission has long recognized that broadcasters “must assume responsibility for all material which is broadcast through their facilities,” “includ[ing] all programs and advertising material which they present to the public,” and “to take all reasonable measures to eliminate any false, misleading, or deceptive matter” and that “[t]his duty is personal to the licensee and may not be delegated.”

3. Political Programming Requirements. The relevant statutory political programming provisions applicable to broadcasters are set forth in sections 315 and 312(a)(7) of the Communications Act of 1934, as amended (Act). Under section 315(a), if a broadcast licensee permits one legally qualified candidate for a public office to use its station, it must afford all other candidates for that office an “equal opportunity” to use the station. In addition, section 315(a) prohibits broadcast licensees from censoring candidate ads. The equal opportunities and no censorship requirements in section 315 also apply to cable system operators, SDARS licensees, and DBS service providers engaged in origination programming. Section 312(a)(7) requires broadcast licensees to give legally qualified candidates for Federal office the opportunity to purchase “reasonable amounts of time.” The reasonable access provisions of section 312(a)(7) also apply to SDARS licensees and DBS service providers engaged in origination programming, but are not applicable to cable system operators.

4. Political Recordkeeping Requirements. The political recordkeeping requirements serve to reinforce the statutory protections for political programming. The Commission first adopted rules requiring broadcast stations to maintain public inspection files documenting requests for political advertising time more than 80 years ago, and political file obligations have been embodied in section 315(e) of the Act since 2002. Section 315(e)(1) requires broadcast licensees to maintain and make available for public inspection information about each request for the purchase of broadcast time that is made: (a) by or on behalf of a legally qualified candidate for public office, or (b) by an issue advertiser whose advertisement communicates a message relating to a political matter of national importance. It is crucial that stations maintain political files that are complete and up to date because the information in them directly affects, among other things, the statutory rights of opposing candidates to request equal opportunities under section 315(a) of the Act and present their positions to the public prior to an election. In addition, as the Commission has stated, “the disclosures included in the political file further the First Amendment's goal of an informed electorate that is able to evaluate the validity of messages and hold accountable the interests that disseminate political advocacy.” Section 315(e)(2) specifies the kinds of records that must be maintained in political files, and section 315(e)(3) provides that these records must be placed in the political file “as soon as possible” and retained for a period of at least two years. The Commission has also applied political file rules to cable television system operators, DBS providers, and SDARS licensees engaged in origination programming.

5. Sponsorship Identification Recordkeeping Requirements. Pursuant to section 317 of the Act and § 73.1212 of the Commission's rules, broadcast stations are required to make on-air sponsorship identification announcements when any valuable consideration is paid or promised to them in exchange for the broadcast of program material. Section 73.1212(e) also requires broadcast stations to comply with certain recordkeeping requirements when the material broadcast is “political matter or matter involving the discussion of a controversial issue of public importance.” The objective of the list retention requirement is to “preserv[e] the audience's right to know by whom it is being persuaded.” The Commission has extended to cable operators that engage in origination cablecasting sponsorship identification and recordkeeping requirements that are largely the same as those applicable to broadcasters.

Other Federal and State Actions

6. The Federal Election Commission (FEC) currently is considering a petition for rulemaking filed by Public Citizen requesting that the FEC amend its rules to clarify that existing campaign law prohibiting fraudulent misrepresentation by candidates for Federal office and their agents applies to deliberately deceptive AI-generated content in campaign ads or other campaign communications. To date, eleven States—California, Idaho, Indiana, Michigan, Minnesota, New Mexico, Oregon, Texas, Utah, Washington, and Wisconsin—have enacted legislation regulating AI-generated “deepfakes” in political ads and other campaign communications. In addition, similar legislation is awaiting governor signature or under consideration in 28 states.

7. Notably, there are distinctions between these Federal and state actions and our proposals in the instant proceeding. For example, the FEC petition for rulemaking would clarify that a prohibition on fraudulent misrepresentation in campaign ads by or on behalf of candidates for Federal office applies to deceptive AI-generated content in such ads, while our proposal would require on-air disclosures in ads by or on behalf of candidates for both Federal and state offices and issue ads that contain any AI-generated content. Our proposals are meant to complement, not replace, this effort, which has the common goal of ensuring an informed public. The final and proposed state actions vary widely, and some explicitly exempt ads aired by broadcast stations. Our proposed on-air disclosure requirement would ensure that broadcast stations and other affected Commission licensees and regulatees face uniform requirements.

Potential Public Interest Benefits and Harms of Using AI-Generated Content in Political Ads

8. With recent advancements and rapid growth in generative AI tools, the use of AI is expected to play a substantial role in the creation of political ads in 2024 and beyond. The Commission anticipates that the use of AI technologies in political ads could provide a number of benefits. The use of AI-generated content could help candidates and issue advertisers tailor their messages to specific communities. For example, a campaign could use AI tools to generate messages targeted to the unique concerns of certain demographics or to produce content in the candidate's voice in multiple languages. AI could also help to speed up and automate the generation of political ads, enabling campaigns and issue advertisers to create new content quickly in the final days leading up to an election. Additionally, because new AI tools are inexpensive, require little training to use, and are capable of generating a large volume of content, such tools could be valuable to smaller campaigns with limited financial resources, allowing them to reach more voters and compete more effectively with larger, well-funded campaigns. The Commission seeks comment on other benefits that the use of AI technologies in political ads could provide.

9. The use of AI-generated content in political ads, however, also creates a potential for providing deceptive, misleading, or fraudulent information to voters. Of particular concern is the use of AI-generated “deepfakes”—altered images, videos, or audio recordings that depict people doing or saying things they did not actually do or say, or events that did not actually occur. Such manipulated media could mislead the public about candidates' assertions or positions on particular issues or about whether certain events actually happened, creating confusion and distrust among potential voters. Moreover, AI tools could be used to produce convincingly false messages about where or when to cast a ballot, or to discourage voters from showing up to their polling locations. To be sure, deceptive political advertising is nothing new. Even before the emergence of AI technologies, tools such as Photoshop have been used to manipulate images used in political ads. The advancement and widespread availability of AI tools, however, has made it easier, faster, and less expensive to make sophisticated and realistic “deepfakes” and other manipulated media, making it increasingly more difficult for voters to discern what is real and what is fake. The Commission seeks comment on these and other potentially harmful effects of using AI-generated content in political ads. Do these potentially harmful effects support Commission intervention in order to ensure that the public is informed of the presence of AI-generated content?

Proposed Definition of “AI-Generated Content”

10. The Commission seeks comment on how to define “AI-generated content” for purposes of this proceeding. In general, AI can encompass a wide range of technologies and functions, and AI technologies include programs that emulate aspects of human intelligence, such as a human voice. While the Commission has not yet adopted a specific definition of “artificial intelligence,” various organizations and statutes have defined AI. In October 2023, President Biden's Executive Order on the Safe, Secure, and Trustworthy Development and Use of Artificial Intelligence (E.O. 14110, 88 FR 75191 (November 1, 2023)) drew upon a statutory definition of AI established by the National Artificial Intelligence Initiative in 2021 and set forth in 15 U.S.C. 9401(3), which defines AI as “a machine-based system that can, for a given set of human-defined objectives, make predictions, recommendations, or decisions influencing real or virtual environments.” The Defense Authorization Act of 2019 provided similar definitions of artificial intelligence, including “an artificial system designed to act rationally, including a software agent or embodied robot that achieves goals using perception, planning, reasoning, learning, communication, decision making, and acting.”

11. The Commission proposes to define “AI-generated content” for purposes of this proceeding as “an image, audio, or video that has been generated using computational technology or other machine-based system that depicts an individual's appearance, speech, or conduct, or an event, circumstance, or situation, including, in particular, AI-generated voices that sound like human voices, and AI-generated actors that appear to be human actors.” The Commission believes this definition would adequately encompass content artificially created for use in political advertising. The Commission seeks comment on this proposed definition and invites commenters to propose alternative definitions.

Proposal To Require Broadcasters To Disclose Use of AI-Generated Content in Political Ads

12. The Commission proposes to require that all radio and television broadcast stations that air political ads inquire whether political ads scheduled to be aired on their stations contain AI-generated content and provide an on-air announcement for all such ads disclosing the use of AI-generated content in the ad. It further proposes to require all broadcast stations that air political ads to include in their online political files a notice disclosing the use of AI-generated content for each political ad that contains such content. As discussed above, broadcasters have an obligation under the Communications Act to operate in the public interest. Given the potential for AI-generated content in political ads to provide false, misleading, and/or deceptive information to the public, the Commission seeks comment on whether requiring broadcasters to disclose the use of AI-generated content in political ads is consistent with their statutory obligation to serve the public interest by ensuring that listeners and viewers have the necessary information to evaluate such ads for themselves.

13. Notably, the Commission is not proposing to ban or restrict the use of AI-generated content in producing political ads. Instead, it is merely proposing that listeners and viewers be informed when a political ad contains such content. The use of AI could help political advertisers provide timely, accurate, and relevant information to potential voters, or AI tools could be used to provide potential voters misleading or deceptive information. The Commission believes that disclosing that a political ad contains AI-generated content could help the listening or viewing audience make informed decisions about the information in that ad. The Commission seeks comment on this view.

14. Proposal to Require Broadcasters to Inquire Whether Political Ads Contain AI-Generated Content. The Commission proposes to require that all broadcast stations that air political ads inquire whether political ads scheduled to be aired on their stations contain any AI-generated content, as defined in this proceeding. Under this proposal, a broadcast station would fulfill its obligation by making a simple inquiry to the person or entity making the request for the purchase of airtime as to whether a political ad includes AI-generated content, as defined herein. Specifically, a broadcast station would be required to inform the person or entity requesting airtime, at the time an agreement is reached to air a political ad, that the station is required to make an on-air disclosure for any political ad that includes such AI-generated content and inquire whether the ad does in fact include such AI-generated content. Comment is sought on this proposal. Would such an inquiry be expected to identify all political ads that use AI-generated content (that is, would the person or entity making the request for airtime generally be expected to know whether the ad was created using AI-generated content)? Are there any additional or alternative actions that we should require broadcast stations to take to inquire whether a political ad uses AI-generated content? Comment is also sought on how stations should go about making the inquiry. For example, should we require that the station's inquiry to the person or entity making the request for the purchase of airtime be made in writing so that there is a record of the request? What if the person or entity requesting airtime fails to respond to a station's inquiry? Should a station that makes a simple inquiry consistent with the Commission's rules be deemed to have satisfied its obligations even if there is no response to the inquiry? Additionally, there may be instances where a station is informed by a third party that a political ad contains AI-generated content where there was no previous affirmative response to the station's inquiry. In these cases, should a station be required to re-inquire with the person or entity making the request for the purchase of airtime?

15. Proposal to Require Broadcasters to Make On-Air Announcement Disclosing the Use of AI-Generated Content in Political Ads. In cases where a political ad scheduled to be aired on a broadcast station contains AI-generated content, the Commission proposes to require the station to make an on-air announcement disclosing that the ad contains AI-generated content. The station would be required to make the on-air announcement immediately preceding or during the broadcast of any ad by or on behalf of a legally qualified candidate for public office and any issue ad that contains AI-generated content. The Commission seeks comment on this proposal. The Commission seeks comment on whether a disclosure immediately preceding or during the ad would be more prominent and bring greater awareness of the fact that the ad contains AI-generated content than a disclosure immediately following the ad. Alternatively, The Commission seeks comment on whether broadcasters should be permitted to air the disclosure at any time immediately preceding, during, or immediately following the ad.

16. The Commission further proposes that broadcasters use standardized language for the on-air disclosure. For radio ads, it proposes that broadcasters provide an on-air announcement orally in a voice that is clear, conspicuous, and a speed that is understandable, stating that: “The following message contains information generated in whole or in part by artificial intelligence.” For television ads, it proposes that broadcasters provide an on-air announcement immediately preceding or during the ad either (i) orally in a voice that is clear, conspicuous, and at a speed that is understandable, stating that: “The following message contains information generated in whole or in part by artificial intelligence” or “This message contains information generated in whole or in part by artificial intelligence,”; or (ii) visually with letters equal to or greater than four percent of the vertical picture height for at least four seconds, stating that: “The following message contains information generated in whole or in part by artificial intelligence” or “This message contains information generated in whole or in part by artificial intelligence.” To the extent that we conclude that broadcasters should have the option to air the disclosure immediately following the ad, this language could be modified as appropriate to state: “The preceding message contains information generated in whole or in part by artificial intelligence.” The Commission seeks comment on the proposal to require standardized language and on the specific language that we have proposed. Is the proposed language sufficient to inform listeners and viewers that an ad's content may require further evaluation to determine whether it contains misleading or inaccurate information? Should the disclosure be in English, in the primary language of the broadcast if other than English, or both? Should television broadcasters have the option to make the on-air disclosure either orally or visually, or should they be required to make the disclosure both orally and visually to ensure that it is accessible to individuals with visual or hearing impairments? In instances where a simple inquiry to the candidate or other entity requesting airtime reveals that there is no AI-generated content in a political ad, the broadcaster would not be required to make any on-air disclosure. However, the Commission seeks comment on the appropriate actions for stations to take in cases where a station is informed by a credible third party that a political ad contains AI-generated content where there was no previous affirmative response to the station's inquiry or the station received a negative response to its inquiry. In these circumstances, should a station be required to follow up with the purchaser of the ad and/or insert the required disclosure? The Commission notes that candidate ads are already required to include an on-air disclosure that the candidate has approved the ad. It seeks comment on where the proposed on-air disclosure regarding AI-generated content would be placed in the audio or video feed relative to the existing disclosure.

17. Proposal to Require Broadcasters to Include in Their Political Files a Notice Disclosing Use of AI-Generated Content in Political Ads. The Commission also proposes to require all broadcast stations to include in their online political files a notice disclosing the use of AI-generated content for each political ad that contains such content. Under this proposal, broadcasters would include a notice for each political ad that contains AI-generated content using the same standardized language discussed above: “This message contains information generated in whole or in part by artificial intelligence.” The Commission seeks comment on this proposal. The Commission believes that this requirement would help to foster greater transparency regarding the use of AI-generated content in political ads by, for example, allowing listeners, viewers, and other interested parties to confirm which ads aired by a station contained AI-generated content. Nevertheless, it seeks comment on whether it would be sufficient for the broadcaster to provide only an on-air disclosure.

18. The Commission also seeks comment on whether notices of AI-generated content included in broadcasters' political file would be “data assets” potentially subject to the requirements of the OPEN Government Data Act. The OPEN Government Data Act requires agencies to make “public data assets” available under an open license and as “open Government data assets,” i.e., in machine-readable, open format, unencumbered by use restrictions other than intellectual property rights, and based on an open standard that is maintained by a standards organization. This requirement is to be implemented “in accordance with guidance by the Director” of the OMB.

19. The Commission tentatively concludes that notices of AI-generated content included in broadcasters' political files would not constitute “data assets” as defined in 44 U.S.C. 3502(17). A “data asset” is defined as “a collection of data elements or data sets that may be grouped together,” and “data” as “recorded information, regardless of form or the media on which the data is recorded.” Each AI-generated content notice, however, is separate and distinct from one another and the information contained in the political files generally is unstructured rather than systematically arranged in a table or database, such that the information could not readily be grouped together in any meaningful way. The Commission tentatively concludes therefore that, in the absence of a standardized collection form, the proposed AI-generated content notices would not constitute a “data asset” subject to the requirements of the OPEN Government Data Act. The Commission seeks comment on this tentative conclusion.

20. Applicability of Proposed Disclosure Requirements to Political Ads Embedded in Network or Syndicated Programming. The Commission seeks comment on whether and how the proposed on-air and political file disclosure requirements should be applied to a candidate or issue ad that is embedded within a network or syndicated program aired by a broadcast station. The Commission notes that in instances where a political ad is embedded in network or syndicated programming, a broadcast station airing the programming would not have direct contact with the person or entity requesting to purchase airtime from the network or syndication company for the political ad. In such cases, how does a broadcast station airing the network or syndicated programming currently comply with its obligations under the political programming and political file rules? Does the network or syndication company generally inform the broadcast stations airing the programming, at some point prior to the scheduled broadcast date, that a particular program includes a political ad? Should the Commission require broadcast stations to make a simple inquiry to the respective network or syndication company, at the time the network or syndication company informs the stations airing the programming that a political ad is embedded in a particular program, whether the ad contains AI-generated content? Alternatively, should the Commission allow broadcast stations to make a simple inquiry of their network and syndication partners at specified intervals (e.g., annually or at the start of each television season) requesting that the network or syndication company inform the stations each time that a political ad embedded within a program contains AI-generated content, prior to the airing of that program? Would the network or syndication company be expected to know if a political ad embedded within its programming contains AI-generated content? If a simple inquiry to the network or syndication company is unlikely to reveal whether political ads embedded in network and syndicated programming contain AI-generated content, should we exempt broadcast stations from complying with the proposed on-air and political file disclosure requirements with respect to political ads embedded in network or syndicated programming? In cases where a station is informed by a credible third party that a political ad contains AI-generated content where there was no previous affirmative response to the station's inquiry, should a station be required to insert the required disclosure? To the extent that a simple inquiry to a network or syndication company can be expected to reveal whether political ads embedded in network or syndicated programming contain AI-generated content, would it be technically feasible or practical for the stations to insert an on-air announcement disclosing that such ads contain AI-generated content in the network or syndicated programming? If not, should stations be exempted from complying with the proposed on-air disclosure requirement but nevertheless required to comply with the proposed political file disclosure requirement?

Extension of Proposals to Cable Operators, DBS Providers, and SDARS Licensees That Engage in Origination Programming

21. The Commission proposes to extend the proposals for broadcast stations discussed herein to cable operators, DBS providers, and SDARS licensees engaged in origination programming. As discussed above, “origination cablecasting” is “[p]rogramming (exclusive of broadcast signals) carried on a cable television system over one or more channels and subject to the exclusive control of the cable operator.” Similarly, “DBS origination programming” is “programming (exclusive of broadcast signals) carried on a DBS facility over one or more channels and subject to the exclusive control of the DBS provider.” The Commission's rules do not include a definition of “SDARS origination programming.” The Commission proposes to amend the rules by adding a definition of to define “SDARS origination programming” as “programming carried on a SDARS facility over one or more channels and subject to the exclusive control of the SDARS licensee.” The Commission seeks comment on this proposal. Cable operators, DBS providers, and SDARS licensees engaged in origination programming are subject to certain public interest obligations, including political programming and political file requirements. The Commission tentatively conclude that the same public interest justifications that support the proposed rules for broadcast stations apply equally to cable operators, DBS providers, and SDARS licensees engaged in origination programming. The Commission seeks comment on this tentative conclusion.

22. Consistent with our broadcast station proposals, cable operators, DBS providers, and SDARS licensees, when engaged in origination programming, would be required to inquire whether political ads scheduled to be aired on their systems or facilities contain any AI-generated content and provide an on-air announcement for all such ads disclosing the use of AI-generated content in the ad. The Commission also proposes to use the same standardized language for disclosure of AI-generated content in political ads as proposed for broadcast stations. Further, it proposes to require these entities to include in their political files a notice disclosing the use of AI-generated content in political ads they air. The Commission seeks comment on application of these proposals to cable operators, DBS providers, and SDARS licensees engaged in origination programming.

Extension of Proposals to Section 325(c) Permit Holders

23. The Commission proposes to extend the on-air disclosure proposed in this proceeding to political ads broadcast pursuant to a section 325(c) permit. A section 325(c) permit is required when an entity produces programming in the United States but, rather than broadcasting the programming from a U.S.-licensed station, transmits or delivers the programming from a U.S. studio to a non-U.S. licensed station in a foreign country and broadcasts the programming from the foreign station with a sufficient transmission power or a geographic location that enables the material to be received consistently in the United States. Section 325(c) permit applications are subject to the requirements of section 309 (applicable to applications for U.S. station licenses). Specifically, the Commission applies “the same criteria for meeting the programming standards component of the public interest, convenience, and necessity requirement to both a domestic license proceeding under section 309 and a cross-border broadcast license proceeding under section 325.”

24. Consistent with its proposals for U.S.-licensed broadcast stations, the Commission proposes to require section 325(c) permit holders to inquire whether political ads scheduled to be delivered from their U.S. studio to a non-U.S. broadcast station contain any AI-generated content and provide an on-air notice for all such ads disclosing the use of AI-generated content in the ad. The Commission proposes to use the same standardized language for on-air notices as proposed for U.S.-licensed broadcast stations. Comment is sought on these proposals. In addition, comment is sought on whether any of the proposals should be modified for section 325(c) permit holders.

25. The Commission tentatively concludes that applying the same on-air disclosure requirements proposed in this proceeding for U.S.-licensed stations to section 325(c) permit holders would serve the public interest because, like programming from a U.S.-licensed station, programming transmitted or delivered by a section 325(c) permit holder is received by audiences in the United States. Thus, the obligation to serve the public interest by taking responsibility for material—including false, misleading or deceptive material—disseminated to the public through their facilities applies equally to section 325(c) permit holders. The Commission seeks comment on this tentative conclusion.

Statutory Authority

26. We seek comment on whether the Commission has the authority to adopt the proposed on-air disclosure and political file requirements for AI-generated content in political ads. Section 303(r) authorizes the Commission, as “public convenience, interest, or necessity requires, . . . to make such regulation and prescribe such restrictions, not inconsistent with law, as may be necessary to carry out the provisions of this Act. . . .” The Commission has relied on its authority under section 303(r) to develop rules necessary to the public interest. For example, the Commission relied on section 303(r), among other general provisions of the Act, to adopt contest rules, explaining that the presentation of false and misleading program material, including advertising, violates a licensee's basic duty to deal honestly with its audience and is contrary to the public interest. The confines of a title III licensee's duty are set by the general standard “the public interest, convenience or necessity,” and thus the Commission also has authority under various sections of the Act, including sections 307(a), 309(a), 309(k)(1)(a), and 335 (for DBS providers) to enact rules in the public interest. We seek comment on whether these provisions authorize us to require broadcasters, SDARS licensees and DBS providers engaged in origination programming, and section 325(c) permit holders to make the proposed on-air and political file disclosures regarding AI-generated content in political ads. In this regard, broadcasters, and SDARS licensees and DBS providers engaged in origination programming, are subject to statutory provisions and the Commission's rules governing political programming and recordkeeping, the fundamental purpose of which is to foster an informed electorate. Are the proposed on-air disclosure and political file requirements necessary to ensure broadcasters and other regulated entities take reasonable measures to address false, misleading, or deceptive material and to ensure that voters have the information needed to assess the reliability and credibility of political ads in order to make informed decisions and therefore would serve the public interest? Are there other statutory provisions, such as sections 303(b), 315, 317, or others, that would support adoption of the proposed on-air disclosure and political file requirements for broadcasters, SDARS licensees, and DBS providers engaged in origination programming?

27. We note that cable operators engaged in origination programming are not subject to the Commission's rulemaking authority under section 303(r). We seek comment on whether there are other statutory provisions, such as sections 315 or others, that would support adoption of the proposed on-air disclosure and political file requirements for cable operators engaged in origination programming. Section 315 of the Act imposes on broadcast licensees and cable operators certain programming obligations with respect to candidate ads and recordkeeping obligations with respect to both candidate and certain issue ads, and these obligations have been extended to DBS providers and SDARS licensees. Section 315(d) of the Act authorizes the Commission to “prescribe appropriate rules and regulations to carry out the provisions of this section” and section 315(e) imposes certain political record keeping requirements. We seek comment on whether the proposed on-air disclosure and political file requirements are within the Commission's authority under sections 315(d) and/or 315(e). Given that section 315 imposes specific programming obligations only with respect to candidate ads, and not issue ads, does that suggest that this section provides authority to adopt the proposed on-air disclosure requirements only for candidate ads? Alternatively, would the same rationale for adopting the proposed on-air disclosure requirements for candidate ads also justify adopting the proposed disclosure requirements for issue ads?

First Amendment Issues

28. The Commission seeks comment on whether the proposed rules raise First Amendment concerns, including those pertaining to broadcasters and cable operators, DBS providers, and SDARS licensees that engage in origination cablecasting. To the extent that our proposed rules implicate regulated entities' First Amendment right to free speech, there are various levels of constitutional scrutiny that might apply. For example, content neutral restrictions on broadcasters are subject to review under “heightened rational basis,” and will be upheld if reasonably tailored to satisfy a substantial government interest. If the proposed rules are not considered content-neutral restrictions, then, with respect to broadcasters, the disclosure requirements will be reviewed under intermediate scrutiny, the less rigorous standard applied to content-based restrictions on that medium. Under the intermediate scrutiny test, restrictions are upheld when the government advances “important governmental interests unrelated to the suppression of free speech” and does not “burden substantially more speech than necessary to further those interests.” If strict scrutiny applies, the disclosure requirements will be upheld if the government's interest is “compelling,” and the rules are both “narrowly tailored” to further that interest and the “least restrictive means” of accomplishing the desired objective. The Commission tentatively concludes that the proposed on-air disclosure and political file requirements comport with the First Amendment right to free speech, regardless which level of scrutiny applies. The Commission seeks comment on this tentative conclusion.

29. Government interest. The Commission tentatively concludes that it has a compelling interest in providing greater transparency regarding the use of AI-generated content in political advertising. The Commission has long recognized that broadcasters must assume responsibility for all material which is broadcast through their facilities and must take reasonable measure to address any false, misleading, or deceptive matter. In addition, at the very heart of the political programming and recordkeeping requirements enacted by Congress and implemented by the Commission is a recognition of the critical role that political programming plays in fostering an informed electorate. The need for transparency about the use of AI-generated content is particularly pronounced when political ads intended to influence voters are involved. Recent advancements in generative AI technologies have led to their widespread use, and AI is expected to play a growing role in the future production of political ads. While the use of AI technologies to create political ads may provide benefits, it can also result in the dissemination of deceptive, misleading, or fraudulent information to voters.

30. The proposed on-air disclosure and political file requirements would further the government interest in ensuring that broadcasters and other program distributors fulfill their responsibilities regarding the material which they relay through their facilities and take reasonable measures to address potentially false, misleading, or deceptive material and ensuring that the public has the information they need to make informed decisions about the political ads that are carried. Disclosing the use of AI-generated content in political ads is vital to ensuring that the public can assess the substance and credibility of the information they receive. Rather than abridging the free speech rights of broadcasters and cable operators, DBS providers, and SDARS licensees that engage in origination programming, the proposed on-air disclosure and political file rules would further the goals of the First Amendment and Communication Act by ensuring broadcasters and other regulated entities take reasonable measures to address potentially false, misleading, or deceptive political advertising and enhancing the public's ability to evaluate political ads, thus promoting an informed electorate and improving the quality of public discourse. The Commission tentatively concludes that this interest is sufficient to satisfy any standard of First Amendment review that may apply and seeks comment on this analysis.

31. Tailoring. The Commission tentatively concludes that the proposed rules are appropriately tailored to serve the government interest. The proposed rules would require the disclosure of any political ad that uses artificial intelligence, defined as “an image, audio, or video generated using computational technology or other machine-based system that depicts an individual's appearance, speech, or conduct, or an event, circumstance, or situation, including, in particular, AI-generated voices that sound like human voices, and AI-generated actors that appear to be human actors.” Since broadcasters and other affected Commission licensees and regulatees would be required to make on-air and political file disclosures only in instances where the ad contains content meeting this definition, and would be allowed to rely on the information provided to them by the person or entity making the request for the purchase of airtime, any administrative burden would be modest. Accordingly, the Commission tentatively concludes that the proposed rules are appropriately tailored to meet any standard that might apply. The Commission seeks comment on this analysis.

32. The Means Chosen to Accomplish the Government's Objective. The Commission also tentatively concludes that the means chosen to accomplish the government's objective would meet any standard of First Amendment review that might apply. Our proposed on-air disclosure and political file requirements would not prevent or inhibit the airing of political ads, i.e., these requirements would not prevent anyone from speaking. Rather, these requirements would promote the goals of the First Amendment and the Communications Act by ensuring broadcasters and other regulated entities take reasonable measures to address potentially false, misleading, or deceptive material and enhancing the public's ability to assess the substance and reliability of political ads, thus fostering an informed electorate and improving the quality of public discourse. As the Court has previously concluded, “disclosure is a less restrictive alternative to more comprehensive regulations of speech.” Broadcasters and cable operators, DBS providers, and SDARS licensees engaged in origination programming would have the modest burdens of inquiring of the ad sponsor whether the political ad scheduled to be aired contains an AI-generated content and, if it does, making on-air and political file disclosures. For this reason, the Commission anticipates the proposed rules would have little if any impact on the decision to accept political ads containing AI-generated content as compared to other ads. The Commission seeks comment on this analysis.

33. In addition, the Commission tentatively concludes that the analysis provided here applies equally to those operating pursuant to section 325(c) permits, because there is nothing to differentiate them from other broadcast licensees when it comes to political programming requirements, and the governmental interest and effects on speech are the same as to content transmitted by U.S.-licensed broadcasters and content transmitted by section 325(c) permittees over the facilities of a non-U.S. broadcaster.

34. The Commission also tentatively concludes that the proposed on-air and political file disclosures would not violate the First Amendment rights of the candidates or other entities that sponsor political ads. These proposed rules would further the government's compelling interest in providing greater transparency regarding the use of AI-generated content in political advertising, ensuring that voters have the information they need to make informed decisions about the political ads that are carried on broadcast stations and other affected facilities. Additionally, the Commission tentatively concludes that the proposed rules are appropriately tailored to serve this interest. When purchasing airtime, broadcasters or other regulated entities would simply ask candidates and other entities that sponsor ads whether their ad was created using AI-generated content. If the answer is yes, then the broadcaster or regulated entity would add the necessary disclosure. The proposed definition of AI-generated content is straightforward and simple to apply. Thus, the administrative burden would be modest. Finally, the Commission tentatively concludes that the means chosen to achieve the government's objective would satisfy First Amendment review. The proposed rules would not suppress speech by preventing or inhibiting candidates and other entities that sponsor political ads from using artificial intelligence to produce their ads. Rather, the proposed disclosure requirements would promote the goals of the First Amendment by enhancing the public's ability to evaluate the substance and reliability of political ads, thus fostering an informed electorate and improving the quality of public discourse. As noted above, the Court has previously concluded that “disclosure is a less restrictive alternative to more comprehensive regulations of speech.” The Commission seeks comment on this analysis.

Cost-Benefit Analysis

35. The Commission seeks comment on the costs and benefits of our proposed rules on broadcasters, cable operators, DBS providers, and SDARS licensees that engage in origination programming, and section 325(c) permit holders, particularly those that are small entities. The Commission tentatively concludes that requiring these entities to make a simple inquiry to the candidate or other entity that requests airtime as to whether a political ad contains AI-generated content would not impose a significant burden on these entities. In this regard, it expects that the candidate or other entity that requests airtime generally would be aware whether or not a particular ad contains AI-generated content. The Commission also tentatively concludes the proposed rules would benefit the public by providing greater transparency regarding the use of AI-generated content in political ads, while imposing a modest burden on the affected entities (i.e., the burden of making a simple inquiry as to the use of AI-generated content and making an on-air disclosure and/or including a notice in the political file). The Commission seeks comment on these tentative conclusions and on other potential benefits and costs of the proposed rules. The benefits and costs of our rules for disclosing AI-generated content depend on the share of political advertisements for which such disclosure would plausibly be required. The Commission thus seeks estimates of the share of political advertisement for which disclosure of AI-generated would be required. The Commission also seeks comment on the cost to the affected entities of airtime for on-air disclosures aired prior to a political ad (i.e., airtime that could otherwise be sold to other advertisers). Given that candidate ads are already required to include an on-air disclosure that the candidate has approved the ad, the Commission seeks comment on any burden associated with requiring two on-air disclosures in a single candidate ad. In addition, it requests comment on whether there are any alternative actions that should be taken to minimize any burdens on affected entities, particularly on small entities. For example, should the proposed on-air disclosure and political file requirements be limited to political ads aired in the 60-day period leading up to a primary election and the 90-day period leading up to a general election? Would it significantly reduce burdens on small entities to require only an on-air disclosure informing the public of the use of AI-generated content, and not a separate notice in the online political file?

Digital Equity and Inclusion

36. The Commission, as part of its continuing effort to advance digital equity for all, including people of color, persons with disabilities, persons who live in rural or Tribal areas, and others who are or have been historically underserved, marginalized, or adversely affected by persistent poverty or inequality, invites comment on any equity-related considerations and benefits (if any) that may be associated with the issues discussed herein. Specifically, the Commission seeks comment on how any Commission actions taken to address the use of AI in political advertising may promote or inhibit advances in diversity, equity, inclusion, and accessibility.

Initial Regulatory Flexibility Act Analysis

37. As required by the Regulatory Flexibility Act of 1980, as amended (RFA), the Commission has prepared this Initial Regulatory Flexibility Act Analysis (IRFA) of the possible significant economic impact on a substantial number of small entities by the policies and rules proposed in the NPRM. Written public comments are requested on this IRFA. Comments must be identified as responses to the IRFA and must be filed by the deadlines for comments provided in the DATES section of this document. The Commission will send a copy of the NPRM, including the IRFA, to the Chief Counsel for Advocacy of the Small Business Administration (SBA). In addition, the NPRM and IRFA (or summaries thereof) will be published in the Federal Register.

A. Need for, and Objectives of, the Proposed Rules

38. The presentation of political programming has long been recognized as an essential element of broadcasters' obligation to serve the public interest because of the critical role such programming plays in fostering an informed electorate, which in turn is vital to the effective operation of the democratic process. The political programming and recordkeeping requirements established by Congress and implemented by the Commission ensure that candidates for elective office have access to broadcast facilities and certain other media platforms and foster transparency about the entities that sponsor political ads.

39. The use of emerging artificial intelligence (AI) technologies in political ads can serve the public interest in fostering an informed electorate by, for example, allowing candidates to tailor their messages to specific populations or empowering smaller political campaigns with limited financial resources to reach larger audiences. The use of AI technologies in political advertising, however, also has the potential to produce “deepfakes” and other deceptive and misleading information, creating confusion among the voting public. Accordingly, the Commission initiates the NPRM to further the public interest by ensuring broadcasters and other regulated entities take reasonable measures to address potentially false, misleading or deceptive material and promoting an informed electorate.

40. The NPRM proposes to define “AI-generated content” for purposes of this proceeding as “an image, audio, or video that has been generated using computational technology or other machine-based system that depicts an individual's appearance, speech, or conduct, or an event, circumstance, or situation, including, in particular, AI-generated voices that sound like human voices, and AI-generated actors that appear to be human actors.” The NPRM also proposes to require that all radio and television broadcast stations inquire whether political ads scheduled to be aired on their stations contain any AI-generated content and make an on-air announcement for all such ads disclosing the use of AI-generated content in the ad. Under this proposal, broadcast stations would fulfill their obligation by making a simple inquiry to the person or entity that submits the request for the purchase of airtime as to whether a political ad includes AI-generated content. Further, the NPRM proposes to require that broadcasters make the on-air disclosure at the beginning of or during the ad and use standardized language for the disclosure and to require broadcast stations to include in their online political files a notice, using standardized language, disclosing the use of AI-generated content for each political ad that contains such content. Moreover, the NPRM proposes to extend these proposed on-air disclosure and political file requirements to cable operators, DBS providers, and SDARS licensees engaged in origination programming and to permit holders transmitting programming pursuant to section 325(c) of the Act. The NPRM does not propose to ban or otherwise restrict the use of AI-generated content in political ads. Instead, it merely seeks to ensure that the listening and viewing public is informed when political ads include such content.

B. Legal Basis

41. The proposed action is authorized pursuant to sections 1, 4(i), 303, 307, 309, 312, 315, 317, 325(c)-(d), and 335 of the Communications Act of 1934, as amended, 47 U.S.C. 151, 154(i), 303, 307, 309, 312, 315, 317, 325(c)-(d), and 335.

C. Description and Estimates of the Number of Small Entities to Which the Proposed Rules Will Apply

42. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A small business concern is one which: (1) is independently owned and operated; (2) is not dominant in its field of operation; and (3) satisfies any additional criteria established by the SBA.

43. Cable Companies and Systems (Rate Regulation). The Commission has developed its own small business size standard for the purpose of cable rate regulation. Under the Commission's rules, a “small cable company” is one serving 400,000 or fewer subscribers nationwide. Based on industry data, there are about 420 cable companies in the U.S. Of these, only seven have more than 400,000 subscribers. In addition, under the Commission's rules, a “small system” is a cable system serving 15,000 or fewer subscribers. Based on industry data, there are about 4,139 cable systems (headends) in the U.S. Of these, about 639 have more than 15,000 subscribers. Accordingly, the Commission estimates that the majority of cable companies and cable systems are small.

44. Cable System Operators (Telecom Act Standard). The Communications Act of 1934, as amended, contains a size standard for a “small cable operator,” which is “a cable operator that, directly or through an affiliate, serves in the aggregate fewer than one percent of all subscribers in the United States and is not affiliated with any entity or entities whose gross annual revenues in the aggregate exceed $250,000,000.” For purposes of the Telecom Act Standard, the Commission determined that a cable system operator that serves fewer than 498,000 subscribers, either directly or through affiliates, will meet the definition of a small cable operator. Based on industry data, only six cable system operators have more than 498,000 subscribers. Accordingly, the Commission estimates that the majority of cable system operators are small under this size standard. We note however, that the Commission neither requests nor collects information on whether cable system operators are affiliated with entities whose gross annual revenues exceed $250 million. Therefore, we are unable at this time to estimate with greater precision the number of cable system operators that would qualify as small cable operators under the definition in the Communications Act.

46. Direct Broadcast Satellite (DBS) Service. DBS service is a nationally distributed subscription service that delivers video and audio programming via satellite to a small parabolic “dish” antenna at the subscriber's location. DBS is included in the Wired Telecommunications Carriers industry which comprises establishments primarily engaged in operating and/or providing access to transmission facilities and infrastructure that they own and/or lease for the transmission of voice, data, text, sound, and video using wired telecommunications networks. Transmission facilities may be based on a single technology or combination of technologies. Establishments in this industry use the wired telecommunications network facilities that they operate to provide a variety of services, such as wired telephony services, including Voice over internet Protocol (VoIP) services, wired (cable) audio and video programming distribution; and wired broadband internet services. By exception, establishments providing satellite television distribution services using facilities and infrastructure that they operate are included in this industry.

47. The SBA small business size standard for Wired Telecommunications Carriers classifies firms having 1,500 or fewer employees as small. U.S. Census Bureau data for 2017 show that 3,054 firms operated in this industry for the entire year. Of this number, 2,964 firms operated with fewer than 250 employees. Based on this data, the majority of firms in this industry can be considered small under the SBA small business size standard. According to Commission data however, only two entities provide DBS service—DIRECTV (owned by AT&T) and DISH Network, which require a great deal of capital for operation. DIRECTV and DISH Network both exceed the SBA size standard for classification as a small business. Therefore, we must conclude based on internally developed Commission data, in general DBS service is provided only by large firms.

48. Radio Stations. This industry is comprised of “establishments primarily engaged in broadcasting aural programs by radio to the public.” Programming may originate in their own studio, from an affiliated network, or from external sources. The SBA small business size standard for this industry classifies firms having $41.5 million or less in annual receipts as small. U.S. Census Bureau data for 2017 show that 2,963 firms operated in this industry during that year. Of this number, 1,879 firms operated with revenue of less than $25 million per year. Based on this data and the SBA's small business size standard, we estimate a majority of such entities are small entities.

49. The Commission estimates that as of March 31, 2024, there were 4,427 licensed commercial AM radio stations and 6,663 licensed commercial FM radio stations, for a combined total of 11,090 commercial radio stations. Of this total, 11,088 stations (or 99.98%) had revenues of $41.5 million or less in 2022, according to Commission staff review of the BIA Kelsey Inc. Media Access Pro Database (BIA) on April 4, 2024, and therefore these licensees qualify as small entities under the SBA definition. In addition, the Commission estimates that as of March 31, 2024, there were 4,320 licensed noncommercial (NCE) FM radio stations, 1,960 low power FM (LPFM) stations, and 8,913 FM translators and boosters. The Commission however does not compile, and otherwise does not have access to financial information for these radio stations that would permit it to determine how many of these stations qualify as small entities under the SBA small business size standard. Nevertheless, given the SBA's large annual receipts threshold for this industry and the nature of radio station licensees, we presume that all of these entities qualify as small entities under the above SBA small business size standard.

50. We note, however, that in assessing whether a business concern qualifies as “small” under the above definition, business (control) affiliations must be included. Our estimate, therefore, likely overstates the number of small entities that might be affected by our action, because the revenue figure on which it is based does not include or aggregate revenues from affiliated companies. In addition, another element of the definition of “small business” requires that an entity not be dominant in its field of operation. We are unable at this time to define or quantify the criteria that would establish whether a specific radio or television broadcast station is dominant in its field of operation. Accordingly, the estimate of small businesses to which the rules may apply does not exclude any radio or television station from the definition of a small business on this basis and is therefore possibly over-inclusive. An additional element of the definition of “small business” is that the entity must be independently owned and operated. Because it is difficult to assess these criteria in the context of media entities, the estimate of small businesses to which the rules may apply does not exclude any radio or television station from the definition of a small business on this basis and similarly may be over-inclusive.

51. Television Broadcasting. This industry is comprised of “establishments primarily engaged in broadcasting images together with sound.” These establishments operate television broadcast studios and facilities for the programming and transmission of programs to the public. These establishments also produce or transmit visual programming to affiliated broadcast television stations, which in turn broadcast the programs to the public on a predetermined schedule. Programming may originate in their own studio, from an affiliated network, or from external sources. The SBA small business size standard for this industry classifies businesses having $41.5 million or less in annual receipts as small. 2017 U.S. Census Bureau data indicate that 744 firms in this industry operated for the entire year. Of that number, 657 firms had revenue of less than $25,000,000. Based on this data we estimate that the majority of television broadcasters are small entities under the SBA small business size standard.

52. As of March 31, 2024, there were 1,382 licensed commercial television stations. Of this total, 1,263 stations (or 91.4%) had revenues of $41.5 million or less in 2022, according to Commission staff review of the BIA on April 4, 2024, and therefore these licensees qualify as small entities under the SBA definition. In addition, the Commission estimates as of March 31, 2024, there were 383 licensed noncommercial educational (NCE) television stations, 379 Class A TV stations, 1,829 low power television (LPTV) stations and 3,118 TV translator stations. The Commission, however, does not compile and otherwise does not have access to financial information for these television broadcast stations that would permit it to determine how many of these stations qualify as small entities under the SBA small business size standard. Nevertheless, given the SBA's large annual receipts threshold for this industry and the nature of these television station licensees, we presume that all of these entities qualify as small entities under the above SBA small business size standard.

53. Wired Telecommunications Carriers. The U.S. Census Bureau defines this industry as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. Wired Telecommunications Carriers are also referred to as wireline carriers or fixed local service providers.

54. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were engaged in the provision of fixed local services. Of these providers, the Commission estimates that 4,146 providers have 1,500 or fewer employees. Consequently, using the SBA's small business size standard, most of these providers can be considered small entities.

D. Description of Projected Reporting, Recordkeeping, and Other Compliance Requirements

55. The rule changes proposed in the NPRM, if adopted, would impose compliance and recordkeeping obligations on small, as well as other entities. Specifically, the NPRM proposes to require broadcast stations, cable operators, SDARS licensees, and DBS providers engaged in origination programming, and section 325(c) permit holders, to make a simple inquiry to the candidate or other entity that requests airtime as to whether a political ad contains AI-generated content and provide on air-disclosures informing listeners and viewers that such ads contain AI-generated content. The NPRM further proposes to require that broadcast stations, and cable operators, SDARS licensees, and DBS providers engaged in origination programming, include a notice in their online political files for all political ads that include AI-generated content disclosing that the ad contains such content.

56. At this time the record does not include sufficient cost/benefit analyses to allow the Commission to quantify the costs of compliance for small entities including whether it will be necessary for small entities to hire professionals to comply with the proposed rules if adopted. The Commission expects, however, that the proposed rules would impose only a modest burden on the affected entities (i.e., the burden of making a simple inquiry as to the use of AI-generated content and making an on-air disclosure and/or including a notice in the political file), because the candidates or entities requesting airtime should be aware of whether the ad which they seek to have aired contains AI-generated content. The NPRM nevertheless seeks comment, particularly for small entities, on the costs and burdens of the proposed rules and whether there are any actions it should take to minimize any burdens on small entities.

E. Steps Taken To Minimize Significant Economic Impact on Small Entities, and Significant Alternatives Considered

57. The RFA requires an agency to describe any significant, specifically small business, alternatives that it has considered in reaching its proposed approach, which may include the following four alternatives (among others): (1) the establishment of differing compliance or reporting requirements or timetables that take into account the resources available to small entities; (2) the clarification, consolidation, or simplification of compliance and reporting requirements under the rule for such small entities; (3) the use of performance, rather than design, standards; and (4) an exemption from coverage of the rule, or any part thereof, for small entities.

58. An alternative option that may reduce burdens on small entities considered in the NPRM is whether to limit the proposed on-air disclosure and political file requirements to political ads aired in the 60-day period leading up to a primary election and the 90-day period leading up to a general election. The NPRM also considers whether requiring only an on-air disclosure informing the public of the use of AI-generated content, and not a separate notice in the online political file, would significantly reduce burdens on small entities. To assist in its evaluation of the economic impact of the proposed rules on small entities, and to better explore options and alternatives, the Commission seeks comment on whether any of the burdens associated with the compliance and recordkeeping requirements described above can be minimized for small entities. The Commission expects to more fully consider the economic impact and alternatives for small entities based on its review of the record and any comments filed in response to the NPRM and this IRFA.

F. Federal Rules That May Duplicate, Overlap, or Conflict With the Proposed Rule

59. None.

Ordering Clauses

60. It is ordered that, pursuant to the authority found in sections 1, 4(i), 303, 307, 309, 312, 315, 317, 325(c)-(d), and 335 of the Communications Act of 1934, as amended, 47 U.S.C. 151, 154(i), 303, 307, 309, 312, 315, 317, 325(c)-(d), and 335, the Notice of Proposed Rulemaking IS ADOPTED.

62. It is further ordered that, pursuant to applicable procedures set forth in §§ 1.415 and 1.419 of the Commission's rules, 47 CFR 1.415, 1.419, interested parties may file comments on the Notice of Proposed Rulemaking in MB Docket No. 24-211 on or before thirty (30) days after publication in the Federal Register and reply comments on or before forty-five (45) days after publication in the Federal Register.

List of Subjects in 47 CFR Parts 25, 73, and 76

Radio, Reporting and recordkeeping requirements, Satellites, Television.

Federal Communications Commission.
Katura Jackson,
Federal Register Liaison Officer.

For the reasons discussed herein, the Federal Communications Commission proposes to amend 47 CFR parts 25, 73, and 76 as follows:

PART 25—SATELLITE COMMUNICATIONS

1. The authority citation for part 25 continues to read as follows:

Authority: 47 U.S.C. 154, 301, 302, 303, 307, 309, 310, 319, 332, 605, and 721, unless otherwise noted.

2. Amend § 25.701 by:

a. Adding paragraph (b)(5); and

b. Redesignating paragraph (d)(4) as paragraph (d)(5); and

c. Adding new paragraph (d)(4).

The additions read as follows:

§ 25.701 Other DBS Public interest obligations.

* * * * *

(b) * * *

(5) Disclosure of artificial intelligence-generated content in political advertising. (i) Artificial intelligence-generated content is defined for purposes of this section as set forth in § 73.1945(a) of this chapter.

(ii) Political advertising is defined for purposes of this section as set forth in § 73.1945(b) of this chapter.

(iii) Each DBS provider engaged in origination programming must inquire whether any political advertising scheduled to be aired on its facilities contains any artificial intelligence-generated content. Such inquiry shall be made, in writing to the person or entity making the request for the purchase of political advertising time, at the time that an agreement is reached to air the political advertising on the DBS provider's facilities.

(iv) If a DBS provider's inquiry pursuant to paragraph (b)(5)(iii) of this section finds that any political advertising scheduled to be aired on its facilities contains any artificial intelligence-generated content, the DBS provider must make an on-air announcement, immediately preceding or during the airing of the advertising, stating: “[The following] or [This] message contains information generated in whole or in part by artificial intelligence.” The on-air announcement may be provided either orally in a voice that is clear, conspicuous, and at a speed that is understandable, or visually with letters equal to or greater than four percent of the vertical picture height for at least four seconds.

* * * * *

(d) * * *

(4) In the case of political advertising, as defined in § 73.1945(b) of this chapter, found by inquiry from a DBS provider engaged in origination program to contain any artificial intelligence-generated content, as defined in § 73.1945(a) of this chapter, the DBS provider shall place in the online political file a notice stating that “This message contains information generated in whole or in part by artificial intelligence.”

* * * * *

3. Amend § 25.702 by:

a. Revising paragraph (a); and

b. Redesignating paragraph (b)(4) as paragraph (b)(5); and

c. Adding new paragraph (b)(4).

The revisions and additions read as follows:

§ 25.702 Other SDARS Public interest obligations.

(a) Political broadcasting requirements. The following political broadcasting rules shall apply to all SDARS licensees: 47 CFR 73.1940, 73.1941, 73.1942, 73.1944, and 73.1945. SDARS origination programming is defined as programming carried on a SDARS facility over one or more channels and subject to the exclusive control of the SDARS licensee.

(b) * * *

(4) In the case of political advertising, as defined in § 73.1945(b) of this chapter, found by inquiry from a SDARS licensee engaged in origination program to contain any artificial intelligence-generated content, as defined in § 73.1945(a) of this chapter, the SDARS licensee shall place in the online political file a notice stating that “This message contains information generated in whole or in part by artificial intelligence.”

* * * * *

PART 73—RADIO BROADCAST SERVICES

4. The authority citation for part 73 continues to read as follows:

Authority: 47 U.S.C. 154, 155, 301, 303, 307, 309, 310, 334, 336, 339.

5. Amend § 73.1943 by redesignating paragraph (d) as paragraph (e) and adding new paragraph (d) to read as follows:

§ 73.1943 Political file.

* * * * *

(d) In the case of political advertising, as defined in § 73.1945(b), found by the licensee's inquiry to contain any artificial intelligence-generated content, as defined in § 73.1945(a), the licensee shall place in the online political file a notice stating that “This message contains information generated in whole or in part by artificial intelligence.”

* * * * *

6. Add § 73.1945 to read as follows:

§ 73.1945 Disclosure of artificial intelligence-generated content in political advertising.

(a) Artificial intelligence (AI)-generated content is defined for purposes of this section as an image, audio, or video that has been generated using computational technology or other machine-based system that depicts an individual's appearance, speech, or conduct, or an event, circumstance, or situation, including, in particular, AI-generated voices that sound like human voices, and AI-generated actors that appear to be human actors.

(b) Political advertising is defined for purposes of this section as:

(1) Advertising that is made by or on behalf of a legally qualified candidate for public office; or

(2) Issue advertising. Issue advertising is defined for purposes of this section as paid political programming that communicates a message relating to any political matter or controversial issue of public importance, but does not include advertising that is made by or on behalf of a legally qualified candidate for public office.

(c) Each licensee must inquire whether any political advertising scheduled to be aired on its station contains any artificial intelligence-generated content. Such inquiry shall be made in writing to the person or entity making the request for the purchase of political advertising time, at the time that an agreement is reached to air the political advertising on the station.

(d) If a licensee's inquiry pursuant to paragraph (c) of this section finds that any political advertising scheduled to be aired on its station contains any artificial intelligence-generated content, the licensee must make an on-air announcement, immediately preceding or during the airing of the advertising, stating: “[The following] or [This] message contains information generated in whole or in part by artificial intelligence.” For radio stations, the on-air announcement must be provided orally in a voice that is clear, conspicuous, and at a speed that is understandable. For television stations, the on-air announcement may be provided either orally in a voice that is clear, conspicuous, and at a speed that is understandable, or visually with letters equal to or greater than four percent of the vertical picture height for at least four seconds.

PART 76—MULTICHANNEL VIDEO AND CABLE TELEVISION SERVICE

7. The authority citation for part 76 continues to read as follows:

Authority: 47 U.S.C. 151, 152, 153, 154, 301, 302, 302a, 303, 303a, 307, 308, 309, 312, 315, 317, 325, 335, 338, 339, 340, 341, 503, 521, 522, 531, 532, 534, 535, 536, 537, 543, 544, 544a, 545, 548, 549, 552, 554, 556, 558, 560, 561, 562, 571, 572, 573.

8. Add § 76.207 to read as follows:

§ 76.207 Disclosure of artificial intelligence-generated content in political advertising.

(a) Artificial intelligence (AI)-generated content is defined for purposes of this section as an image, audio, or video that has been generated using computational technology or other machine-based system that depicts an individual's appearance, speech, or conduct, or an event, circumstance, or situation, including, in particular, AI-generated voices that sound like human voices, and AI-generated actors that appear to be human actors.

(b) Political advertising is defined for purposes of this section as:

(1) Advertising that is made by or on behalf of a legally qualified candidate for public office; or

(2) Issue advertising. Issue advertising is defined for purposes of this section as paid political programming that communicates a message relating to any political matter or controversial issue of public importance, but does not include advertising that is made by or on behalf of a legally qualified candidate for public office.

(c) Each cable television system operator must inquire whether any political advertising scheduled to be aired on its system contains any artificial intelligence-generated content. Such inquiry shall be made in writing to the person or entity making the request for the purchase of political advertising time, at the time that an agreement is reached to air the political advertising on the system.

(d) If a cable television system operator's inquiry pursuant to paragraph (c) of this section finds that any political advertising scheduled to be aired on its station contains any artificial intelligence-generated content, the operator must make an on-air announcement, immediately preceding or during the airing of the advertising, stating: “[The following] or [This] message contains information generated in whole or in part by artificial intelligence.” The on-air announcement may be provided either orally in a voice that is clear, conspicuous, and at a speed that is understandable, or visually with letters equal to or greater than four percent of the vertical picture height for at least four seconds.

9. Amend § 76.1701 by redesignating paragraphs (d) and (e) as paragraphs (e) and (f) and adding new paragraph (d) to read as follows:

§ 76.1701 Political file.

* * * * *

(d) In the case of political advertising, as defined in § 73.1945(b) of this chapter, found by inquiry from a cable operator engaged in origination cablecasting to contain any artificial intelligence-generated content, as defined in § 73.1945(a) of this chapter, the cable operator shall place in the online political file a notice stating that “This message contains information generated in whole or in part by artificial intelligence.”

* * * * *

[FR Doc. 2024-16977 Filed 8-2-24; 8:45 am]

BILLING CODE 6712-01-P